ENVIRONMENTAL PROTECTION AGENCY

[FRL-6842-8]

Massachusetts Marine Sanitation Device Standard; Notice of Determination Buzzards Bay

AGENCY: Environmental Protection Agency (EPA).

ACTION: Notice.

SUMMARY: On June 16, 2000, notice was published that the State of Massachusetts had petitioned the Regional Administrator, Environmental Protection Agency, to determine that adequate facilities for the safe and sanitary removal and treatment of sewage from all vessels are reasonably available for all waters of Buzzards Bay. The petition was filed pursuant to section 312(f)(3) of Public Law 92-500, as amended by Public Laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of Massachusetts certified that there are thirty disposal facilities available to service vessels operating in Buzzards Bay. A list of the facilities, phone numbers, locations, and hours of operation is appended at the end of the determination.

Based on the examination of the petition and its supporting information, which included site visits by EPA New England staff, I have determined that adequate facilities for the safe and sanitary removal and treatment of sewage from all vessels are reasonably available for the area covered under this determination which include all of Buzzards Bay.

Longitude | Latitude
71°07′12.80″ | 41°29′48.48″
71°05′45.60″ | 41°25′05.52″
71°03'32.04″ | 41°25′24.96″
71°59′51.72″ | 41°22′30.00″
70°56′57.12″ | 41°24′33.12″
70°.54′29.88″ | 41°25′17.04″
70°54′11.52″ | 41°25′17.04
70°51′19.80″ | 41°26′24.00″
70°50′22.92″ | 41°26′44.88″
70°48′28.80″ | 41°26′56.76″
70°48′18.00″ | 41°26′59.28″
70°42′06.12″ | 41°30′34.92″
70°41′58.20″ | 41°30′37.80″
70°40′51.60″ | 41°30′55.44″
70°40′58.44″ | 41°31′14.16″
70°37′27.48″ | 41°44′14.64″—Canal Entrance West
70°37′21.36″ | 41°44′10.68″—Canal Entrance East

This determination is made pursuant to section 312(f)(3) of Public Law 92-500, as amended by Public Laws 95-217 and 100-4.

FOR FURTHER INFORMATION CONTACT: A response to comments was prepared for the seven communications the EPA New England received during the 30 day comment period, and may be requested from EPA by written request to: Ann Rodney, U.S. EPA New England, 1 Congress Street, Suite 1100, CWQ, Boston, MA 02114-2023.

Dated: July 28, 2000.
Mindy S. Lubber,
Regional Administrator, EPA-New England.

City/town and location | VHF chan. | Telephone | Hours
Falmouth:
Woods Hole Marine, pumpout boat | 9 | 508-540-2402
Quisset Harbor boatyard, pumpout boat | 9 | 508-548-0506 | 8-6/7.
Brewer's Fiddler Cove, dockside facility | 9 | 508-564-6327 | 9-5/7.
Brewer's Fiddler Cove, pump-out cart | 9 | 508-564-6327 | 9-5/7.
Town owned boat: W. Falmouth/Waquoit Bay
Bourne:
Parker's Boat Yard, dockside facility | 69 | 508-563-9366 | 8-8/7.
Kingman Marine, dockside facility | 9 | 508-563-7136 | 8-8/7.
Dockside Facility, Pocasset River, town operated
Monument Beach Marina, dockside facility, town owned
Bourne Marina, dockside facility | 9 | 508-759-0623 | 8-5/7.
Bourne Marina, pumpout boat #1, serving northside | 9 | 508-759-0623 | 8-5/7.
Bourne Marina, pumpout boat #2, serving southside | 9 | 508-759-0623 | 8-5/7.
Wareham:
Bevans/Continental Marina, dockside facility | 9 | 508-759-5451 | Call.
Onset Bay Marina, dockside facility | 9 | 508-295-0338 | Call.
Onset Bay Marina, pumpout boat | 9 | 508-295-0338 | Call.
Pt. Independence YC, dockside facility | 9 | 508-295-3972 | Call.
Stonebridge Marina, dockside facility | 9 | 508-295-8003 | Call.
Onset Town Pier, dockside facility | 9 | 508-295-8160 | Call.
Warr's Marine, dockside facility | 9 | 508-295-0022 | Call.
Warr's Marine (Town oper.) pumpout boat #1 | 9 | 508-291-3100 | Call.
Marion:
Island Wharf, dockside facility | 9 | 508-748-3535 | 8-5/7.
Island Wharf, pumpout boat | 9 | 508-748-3535 | 8-5/7.
Mattapoisett:
Mattapoisett Boat Yard, pumpout boat | 68 | 508-758-3812 | 8-4/5.
Mattapoisett Town Dock, pumpout boat
Mattapoisett Town Dock, dockside facility | 68 | 508-758-4191 | 8-5/5.
Fairhaven:
Earl's Marina, dockside facility | 18 | 508-993-8600 | 7-6/7.
Shipyard Marine, pumpout boat does entire town | 9 | 508-979-4023 | On Call.
Shipyard Marine, pumpout boat
New Bedford:
Pope's Island Marina, dockside facility | 9, 74 | 508-979-1456 | 7-8/7.
State Pier facility, dockside facility, large vessels
Proposed Boat
Dartmouth:
No. Side Bridge, Town Dock, pumpout boat | 9 | 508-999-0759 | 8-8/7.
Davis & Tripp's Marina, pumpout boat | 9 | 508-999-0759 | 8-8/7.
Westport:
Tripp's Marina | 9 | 508-636-4058 | Call.
Westport Point-Town Dock, boat #1 | 9 | 508-636-1105 | Call.
Westport Point-Town Dock, boat #2 | 9 | 508-636-1105 | Call.
Bay-wide:
CBB Bay Keeper, Gosnold and Bay-wide | TBA | 508-999-6363 | TBA.

[FR Doc. 00-19255 Filed 7-28-00; 8:45 am]

BILLING CODE 6560-50-P